DEPARTMENT OF COMMERCE

National Oceanic and Atmospheric Administration

50 CFR Part 679

[Docket No. 250312-0037; RTID 0648-XE857]

Fisheries of the Exclusive Economic Zone off Alaska; Shortraker Rockfish in the Central Regulatory Area of the Gulf of Alaska

AGENCY: National Marine Fisheries Service (NMFS), National Oceanic and Atmospheric Administration (NOAA), Commerce.

ACTION: Temporary rule; closure.

SUMMARY: NMFS is prohibiting retention of shortraker rockfish in the Central Regulatory Area of the Gulf of Alaska (GOA) except by catcher/processors checked-in to the Central GOA Rockfish Program who are fishing with a rockfish cooperative quota permit. This action is necessary because the 2025 total allowable catch of shortraker rockfish for vessels other than these catcher/processors has been reached.

DATES: Effective 1200 hours, Alaska local time (A.l.t.), April 15, 2025, through 2400 hours, A.l.t., December 31, 2025.

FOR FURTHER INFORMATION CONTACT: Abby Jahn, 907-586-7228.

SUPPLEMENTARY INFORMATION: NMFS manages the groundfish fishery in the GOA exclusive economic zone according to the Fishery Management Plan for Groundfish of the GOA (FMP) prepared and recommended by the North Pacific Fishery Management Council under authority of the Magnuson-Stevens Fishery Conservation and Management Act (Magnuson-Stevens Act). Regulations governing fishing by U.S. vessels in accordance with the FMP appear at subpart H of 50 CFR part 600 and 50 CFR part 679.

The 2025 total allowable catch (TAC) of shortraker rockfish in the Central Regulatory Area of the GOA for vessels other than catcher/processors checked-in to the Central GOA Rockfish Program who are fishing with a rockfish cooperative quota permit is 113 metric tons as established by the final 2025 and 2026 harvest specifications for groundfish of the GOA (90 FR 12468, March 18, 2025).

In accordance with § 679.20(d)(2), the Regional Administrator has determined that the 2025 TAC of shortraker rockfish for vessels other than catcher/processors checked-in to the Central GOA Rockfish Program who are fishing with a rockfish cooperative quota permit will soon be or has been reached. Therefore, NMFS is requiring that shortraker rockfish for vessels in the Central Regulatory Area of the GOA be treated as prohibited species in accordance with § 679.21(a)(2) for the remainder of the year, except for shortraker rockfish in the Central Regulatory Area of the GOA caught by catcher vessels using hook-and-line, pot, or jig gear as described in § 679.20(j), or catcher vessels using trawl gear participating in the electronic monitoring program as described in § 679.21(a)(2). This action does not apply to catcher/processors checked in to the Central GOA Rockfish Program who are fishing with a rockfish cooperative quota permit.

Classification

NMFS issues this action pursuant to section 305(d) of the Magnuson-Stevens Act. This action is required by 50 CFR part 679, which was issued pursuant to section 304(b) of the Magnuson-Stevens Act, and is exempt from review under Executive Order 12866.

Pursuant to 5 U.S.C. 553(b)(B), there is good cause to waive prior notice and an opportunity for public comment on this action, as notice and comment would be impracticable and contrary to the public interest, as it would prevent NMFS from responding to the most recent fisheries data in a timely fashion and would delay prohibiting the retention of shortraker rockfish for vessels other than catcher/processors checked-in to the Rockfish Program who are fishing with a rockfish cooperative quota permit. NMFS was unable to publish a notice providing time for public comment because the most recent, relevant data on shortraker rockfish catch only became available as of April 14, 2025.

The Assistant Administrator for Fisheries, NOAA also finds good cause to waive the 30-day delay in the effective date of this action under 5 U.S.C. 553(d)(3). This finding is based upon the reasons provided above for waiver of prior notice and opportunity for public comment.

Authority: 16 U.S.C. 1801 et seq.

Dated: April 15, 2025.
Kelly Denit,
Director, Office of Sustainable Fisheries, National Marine Fisheries Service.

[FR Doc. 2025-06761 Filed 4-15-25; 4:15 pm]

BILLING CODE 3510-22-P